DEPARTMENT OF HEALTH AND HUMAN SERVICES

Administration for Children and Families

Agency Recordkeeping/Reporting Requirements Under Emergency Review by the Office of Management and Budget (OMB)

Title: TANF Emergency Fund Subsidized Employment Report, Form OFA 200.

OMB No.: New Collection.

Description: On February 17, 2009, the President signed the American Recovery and Reinvestment Act of 2009 (Recovery Act), which establishes the Emergency Contingency Fund for State Temporary Assistance for Needy Families (TANF) Programs (Emergency Fund) as section 403(c) of the Social Security Act (the Act). This legislation provides up to $5 billion to help States, Territories, and Tribes in fiscal year (FY) 2009 and FY 2010 that have an increase in assistance caseloads or in certain types of expenditures. The Recovery Act also made other changes to TANF—extending supplemental grants through FY 2010, expanding flexibility in the use of TANF funds carried over from one fiscal year to the next, and adding a hold-harmless provision to the caseload reduction credit for States and Territories serving more TANF families.

The Emergency Fund is intended to build upon and renew the principles of work and responsibility that underlie successful welfare reform initiatives. The Emergency Fund provides resources to States, Territories, and Tribes (referred to collectively here as “jurisdictions”) to support work and families during this difficult economic period.

Many jurisdictions are implementing subsidized employment programs as a result of the availability of this new funding, and there is substantial interest in understanding how this funding has been used. There is also significant public interest in the number of individuals that are being placed in subsidized employment as a result of the Recovery Act. As a result, we are proposing a voluntary data collection for jurisdictions regarding information on the number of individuals in subsidized employment funded in whole or in part by the TANF Emergency Fund or that were included in the calculation of a TANF Emergency Fund award.

The definition of subsidized employment used for this collection is the same as the definition for the TANF program in general, given in 45 CFR 261.2(c) and (d). This information will help the agency as well as the public better understand how jurisdictions are using the money they are awarded through the Emergency Fund.

A voluntary information collection relating to the number of individuals in subsidized employment will serve several purposes.

This information will demonstrate the impact of the program, help ACF to evaluate the effectiveness of this initiative, and provide information to aide in the transparency and accountability of jurisdictions receiving Recovery Act funds. This information will also allow the Administration to publicly communicate the impact and achievements of the program, and make future policy decisions on the basis of such knowledge.

Respondents: State, Territory, and Tribal agencies administering the Temporary Assistance for Needy Families (TANF) Program that have received TANF Emergency Funds.

Annual Burden Estimates
Instrument | Number of respondents | Number of responses per respondent | Average burden hours per response | Total burden hours
Subsidized Employment Report OFA-200 | 74 jurisdictions | 2 (Q3 & Q4 of FY 2010) | 24 | 3,552

Estimated Total Annual Burden Hours: We estimate the annualized cost of the hour burden to be $319,680. This figure is based on an estimated average hourly cost of $90 (including fringe benefits, overhead, and general and administrative costs) for the jurisdiction staff performing the work multiplied by the estimated 3,552 burden hours, calculated based on 74 jurisdictions applying for and receiving TANF Emergency Funds (all States and Territories, plus an estimated 20 Tribes). Jurisdictions would submit two report for FY 2010, one for quarter 3 and one for quarter 4.

Additional Information: A copy of this information collection, with applicable supporting documentation, may be obtained by calling the Administration for Children and Families, Reports Clearance Officer, Robert Sargis at (202) 690-7275. Interested persons are invited to submit comments regarding this request. For the best effect, comments must be received within thirty days from the publication date of this notice.

Comments about the information collection described above should be directed to the Office of Information and Regulatory Affairs, Attn: OMB Desk Officer for ACF, Office of Management and Budget, Paperwork Reduction Project, 725 17th Street, NW., Washington, DC 20503; Fax: (202) 395-7285; e-mail: oira_submission@omb.eop.gov.

Dated: May 28, 2010.
Robert Sargis,
Reports Clearance Officer.

[FR Doc. 2010-13474 Filed 6-7-10; 8:45 am]

BILLING CODE 4184-01-M